DEPARTMENT OF AGRICULTURE

Animal and Plant Health Inspection Service

[Docket No. 01-061-1]

International Plant Protection Convention Standard on the Plant Pest Risks Associated With Living Modified Organisms; Public Meeting

AGENCY: Animal and Plant Health Inspection Service, USDA.

ACTION: Notice of public meeting.

SUMMARY: We are giving notice of a public meeting to solicit comments on the development of an international standard concerning the plant pest risks associated with living modified organisms.

DATES: The public meeting will be held on August 23, 2001, from 10 a.m. to noon.

ADDRESSES: The public meeting will be held at the USDA Center at Riverside, 4700 River Road, Riverdale, MD, in Training Rooms 1 and 2.

FOR FURTHER INFORMATION CONTACT: Dr. Cathleen Enright, Director, Biotechnology Issues, PIM, PPQ, APHIS, 4700 River Road Unit 140, Riverdale, MD 20737-1236; (301) 734-5342. For further information on APHIS' participation in international standard-setting activities, contact Mr. Narcy Klag, Manager, International Standards Management, PIM, PPQ, APHIS, 4700 Riverdale Road Unit 140, River, MD 20737-1236; (301) 734-8469.

SUPPLEMENTARY INFORMATION: The International Plant Protection Convention (IPPC) is recognized as the standard-setting body for international plant pest issues by the World Trade Organization. In April 2001, the IPPC's Interim Commission on Phytosanitary Measures (ICPM) recommended that an international standard be completed by April 2004 to address the plant pest risks associated with living modified organisms (LMOs). At that time, the ICPM established an expert working group to develop detailed specifications for an LMO standard. The expert working group is expected to meet September 10-14, 2001.

The decision to develop an international standard was the result of requests from IPPC member countries for guidance from the IPPC on evaluating LMOs as plant pests, and the subsequent recommendations made in June 2000 by a meeting of an IPPC working group charged with considering this issue. The need for a standard was further discussed at a public meeting held by the Animal and Plant Health Inspection Service (APHIS) on March 8, 2001 (see 66 FR 10874, Docket No. 01-012-1, published February 20, 2001). The transcript of the March 8 meeting is available on the Internet at http://www.aphis.usda.gov/ppq/pim/standards/lmos.pdf.

The April 2001 meeting of the ICPM also produced terms of reference for the expert working group to use in developing detailed specifications for a standard on the plant pest risks associated with LMOs. The expert working group will develop a detailed standard specification for consideration at the ICPM4 meeting, to be held March 2002, that:

1. Identifies the plant pest risks associated with LMOs/products of modern biotechnology;

2. Identifies elements relevant to the assessment of these plant pest risks;

3. Considers existing international regulatory frameworks and guidelines;

4. Identifies areas within pest risk analysis standards and other international standards for phytosanitary measures (ISPMs) that are relevant to the phytosanitary aspects of LMOs/products of modern biotechnology; and

5. Identifies the plant pest risks associated with LMOs/products of modern biotechnology that are not adequately addressed by existing ISPMs.

The entire report from the April meeting is available on the Internet at http://www.fao.org/waicent/faoinfo/agricult/agp/agpp/pq/.

We are holding this public meeting to solicit comments on the development of specifications for the LMO standard.

This public meeting is scheduled for Thursday, August 23, 2001. The public meeting will begin at 10 a.m. and is scheduled to end at noon. Those wishing to speak at the meeting must register in advance on or before Monday, August 20, 2001. To register to speak, please e-mail Dr. Cathleen Enright at cathleen.a.enright@aphis.usda.gov or send a fax to Dr. Cathleen Enright at (301) 734-7639. Registrants should include their name, affiliation, address, and telephone number. Speakers are welcome, but not required, to submit written copies of their comments by e-mail to the address listed above. Depending on the number of registered speakers, limits may be imposed on the length of each speaker's presentation. The meeting will be recorded, and information about obtaining a transcript will be provided at the meeting.

Participation by teleconference will be available. Those wishing to participate by phone should contact Dr. Cathleen Enright for phone-in information at the e-mail address listed above by Friday, August 17, 2001. Finally, in lieu of attending the public meeting, interested persons may submit comments by mail or e-mail directly to Dr. Cathleen Enright at the addresses listed above.

If you require special accommodations, such as a sign language interpreter, please contact either of the persons listed under FOR FURTHER INFORMATION CONTACT.

Parking and Security Procedures

Please note that a fee of $2 is required to enter the parking lot at the USDA Center at Riverside. The machine accepts $1 bills or quarters.

Upon entering the building, visitors should inform security personnel that they are attending the Living Modified Organisms public meeting. Identification is required. Security personnel will direct visitors to the registration tables located outside of Training Rooms 1 and 2. Registration upon arrival is necessary for all participants, including those who have registered in advance to speak. Visitor badges must be worn throughout the day.

Further information regarding the meeting and registration instructions may be obtained from either of the persons listed under FOR FURTHER INFORMATION CONTACT.

Done in Washington, DC, this 24th day of July 2001.
Bobby R. Acord,
Acting Administrator, Animal and Plant Health Inspection Service.

[FR Doc. 01-18780 Filed 7-26-01; 8:45 am]

BILLING CODE 3410-34-U